DEPARTMENT OF ENERGY

Office of Civilian Radioactive Waste Management; Site Recommendation Consideration Hearings; Yucca Mountain—Announcement of Changes in Public Hearings

AGENCY: Office of Civilian Radioactive Waste Management, Department of Energy.

ACTION: Notice of change in public hearing dates and times.

SUMMARY: The Department of Energy (the Department) announces a change in public hearing dates, times and sites for the hearings on the possible recommendation of the Yucca Mountain Site in Nevada for development as a spent nuclear fuel and high-level radioactive waste geologic repository.

DATES: The hearings will take place on October 10, 2001, in Amargosa Valley and on October 12, 2001 in Pahrump, Nevada.

ADDRESSES:

Amargosa Valley: Longstreet Inn and Casino, Highway 373, Amargosa Valley, Nevada 89020; 2:00 p.m.-9:00 p.m.—Poster Session; 3:00 p.m.-9:00 p.m.—Hearing

Pahrump: Bob Ruud Community Center, 150 Highway North #160, Pahrump, Nevada 89048, 2:00 p.m.-9:00 p.m.—Poster Session; 3:00 p.m.-9:00 p.m.—Hearing

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: In the August 21, 2001, Federal Register Notice (66 FR 43850-43851), the Department announced the scheduling of public hearings in Las Vegas, Nevada on September 5, 2001, in Amargosa Valley on September 12, 2001, and in Pahrump, Nevada on September 13, 2001. The Department decided to postpone the latter two hearings in light of the recent terrorist attacks on the United States.

The public is invited to participate in these hearings in Amargosa Valley and Pahrump, Nevada on October 10 and October 12, 2001, respectively, by presenting oral or written views. These hearings will be informal, and the Department will use a facilitator at each site in an effort to ensure that the hearings are fair and productive. Poster sessions will begin at 2:00 p.m., and end at 9:00 p.m. Receipt of oral comments will begin at 3:00 p.m. and end at 9:00 p.m., or when all present have had the opportunity to be heard. Those citizens wishing to speak are encouraged to call 1-800-967-3477 to reserve a five-minute slot for oral presentations. Slots will be reserved in the order calls are received. Callers will not be permitted to reserve specific time slots. One time-slot will be reserved per caller.

The Department does not currently anticipate further changes in time or location. However, those planning to attend the hearings may want to check the Yucca Mountain web site at www.ymp.gov or call 1-800-967-3477 to confirm times and locations.

Issued in Washington, D.C. on September 24, 2001.
Lake H. Barrett,
Acting Director, Office of Civilian Radioactive Waste Management.

[FR Doc. 01-24247 Filed 9-26-01; 8:45 am]

BILLING CODE 6450-01-P